DEPARTMENT OF ENERGY

Federal Energy Regulatory Commission

Combined Notice of Filings

Take notice that the Commission has received the following Natural Gas Pipeline Rate and Refund Report filings:

Filings Instituting Proceedings

Docket Numbers: PR15-12-001.

Applicants: NET Mexico Pipeline Partners, LLC.

Description: Tariff filing per 284.123/.224: Revised Statement of Operating Conditions to be effective 12/31/2014; Filing Type: 790.

Filed Date: 7/27/15.

Accession Number: 20150727-5070.

Comments/Protests Due: 5 p.m. ET 8/17/15.

Docket Numbers: RP15-1132-000.

Applicants: Texas Eastern Transmission, LP.

Description: § 4(d) Rate Filing: Negotiated Rate—Chevron Aug2015 TEAM2014 Release to be effective 8/1/2015.

Filed Date: 7/27/15.

Accession Number: 20150727-5034.

Comments Due: 5 p.m. ET 8/10/15.

Docket Numbers: RP15-1133-000.

Applicants: Algonquin Gas Transmission, LLC.

Description: § 4(d) Rate Filing: Negotiated Rate eff 11-1-2015 for BP Energy K# 510771 to be effective 11/1/2015.

Filed Date: 7/27/15.

Accession Number: 20150727-5036.

Comments Due: 5 p.m. ET 8/10/15.

Docket Numbers: RP15-1134-000.

Applicants: Central New York Oil And Gas, L.L.C.

Description: § 4(d) Rate Filing: Central New York Oil And Gas Company, L.L.C.—Proposed Revisions to Tariff to be effective 9/1/2015.

Filed Date: 7/27/15.

Accession Number: 20150727-5141.

Comments Due: 5 p.m. ET 8/10/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 28, 2015.
Nathaniel J. Davis, Sr.,
Deputy Secretary.

[FR Doc. 2015-18965 Filed 7-31-15; 8:45 am]

BILLING CODE 6717-01-P